NATIONAL FOUNDATION ON THE ARTS AND THE HUMANITIES

National Endowment for the Arts

Notice per OMB Memoranda 22-08: Identification of Federal Financial Assistance Infrastructure Programs Subject to the Build America, Buy America Provisions of the Infrastructure Investment and Jobs Act

AGENCY: National Foundation for the Arts and Humanities; National Endowment for the Arts.

ACTION: Notice of report.

SUMMARY: Per the “Build America, Buy America Act” (the “Act”), federal entities are required to provide OMB and Congress a report listing all Federal financial assistance programs for infrastructure administered by the agency. This report is required to be published in the Federal Register. The NEA has no programs for infrastructure within the definition of the Act.

FOR FURTHER INFORMATION CONTACT: Brenna Berger, Director of Grants, National Endowment for the Arts, 400 7th St. SW, Washington, DC 20506, Telephone: 202-682-5400.

SUPPLEMENTARY INFORMATION: On November 15, 2021, President Biden signed into law the Infrastructure Investment and Jobs Act (IIJA), which includes the “Build America, Buy America Act” (the Act). This Act ensures that Federal infrastructure programs require the use of materials produced in the United States, increases the requirement for American-made content, and strengthens the waiver process associated with Buy American provisions.

The Act requires that within 60 days of its enactment, each agency must submit to the Office of Management and Budget (OMB) and Congress a report (“60-day report”) listing all Federal financial assistance programs for infrastructure administered by the agency. In these 60-day reports, agencies are required to identify and provide a list of which of these programs are “deficient,” as defined in the Act. 3 These agency reports must also be published in the Federal Register.

The NEA has reviewed its Federal financial assistance programs and has determined that it does not administer any financial assistance programs for infrastructure as defined under the Act. Nor were any deficient programs, as defined under the Act, identified. This information has been reported to Congress and OMB as required by the Act.

Authority: 20 U.S.C. 959; Pub. L. 117-58 70913(a)(2).

Dated: January 13, 2022.
Meghan Jugder,
Support Services Specialist, Office of Administrative Services & Contracts National Endowment for the Arts.

[FR Doc. 2022-00926 Filed 1-18-22; 8:45 am]

BILLING CODE 7537-01-P